FEDERAL COMMUNICATIONS COMMISSION

47 CFR Part 5

[ET Docket Nos. 10-236 and 06-155, FCC 13-15]

Radio Experimentation and Market Trials—Streamlining Rules

AGENCY: Federal Communications Commission.

ACTION: Final rule; announcement of effective date.

SUMMARY: In this document, the Commission announces that the Office of Management and Budget (OMB) has approved, for a period of three years, the information collection associated with the Commission's Radio Experimentation and Market Trials, Report and Order (Order)'s streamlining rules. This document is consistent with the Order, which stated that the Commission would publish a document in the Federal Register announcing the effective date of those rules.

DATES: Amendment of §§ 5.59, 5.61, 5.63, 5.64, 5.65, 5.73, 5.79, 5.81, 5.107, 5.115, 5.121, 5.123, 5.205, 5.207, 5.217(b), 5.307, 5.308, 5.309, 5.311, 5.404, 5.405, 5.406, 5.504, and 5.602, published at 78 FR 25138, April 29, 2013, are effective January 14, 2016.

FOR FURTHER INFORMATION CONTACT: Rodney Small, Office of Engineering and Technology Bureau, at (202) 418-2452, or email: Rodney.Small@fcc.gov.

SUPPLEMENTARY INFORMATION: This document announces that, on December 17, 2015, OMB approved, for a period of three years, the information collection requirements relating to the streamlining rules contained in the Commission's Order, FCC 13-15, published at 78 FR 25138, April 29, 2013. The OMB Control Number is 3060-0065. The Commission publishes this document as an announcement of the effective date of the rules. If you have any comments on the burden estimates listed below, or how the Commission can improve the collections and reduce any burdens caused thereby, please contact Nicole Ongele, Federal Communications Commission, Room 1-A620, 445 12th Street SW., Washington, DC 20554. Please include the OMB Control Number, 3060-0065, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on December 17, 2015, for the information collection requirements contained in the modifications to the Commission's rules in 47 CFR part 5. Under 5 CFR part 1320, an agency may not conduct or sponsor a collection of information unless it displays a current, valid OMB Control Number. No person shall be subject to any penalty for failing to comply with a collection of information subject to the Paperwork Reduction Act that does not display a current, valid OMB Control Number. The OMB Control Number is 3060-0065. The foregoing notice is required by the Paperwork Reduction Act of 1995, Public Law 104-13, October 1, 1995, and 44 U.S.C. 3507.

The total annual reporting burdens and costs for the respondents are as follows:

OMB Control Number: 3060-0065.

OMB Approval Date: December 17, 2015.

OMB Expiration Date: December 31, 2018.

Title: Radio Experimentation and Market Trials—Streamlining Rules.

Form Number: FCC Form 442.

Respondents: Business or other for-profit entities; not-for-profit institutions, and individuals or household.

Number of Respondents and Responses: 495 respondents; 560 responses.

Estimated Time per Response: 4 hours.

Frequency of Response: On-occasion reporting requirements; recordkeeping requirements; and third party disclosure.

Obligation to Respond: Required to obtain or retain benefits. The statutory authority for this information collection is contained in sections 47 U.S.C. Sections 4, 302, 303, 306, and 307 of the Communications Act of 1934, as amended.

Total Annual Burden: 3,049 hours.

Total Annual Cost: $41,600.

Nature and Extent of Confidentiality: There is no need for confidentiality, except for personally identifiable information individuals may submit, which is covered by a system of records, FCC/OET-1, “Experimental Radio Station License Files,” 71 FR 17234, April 6, 2006.

Privacy Act: No impact(s).

Needs and Uses: On January 31, 2013, the Commission adopted a Report and Order, in ET Docket No. 10-236 and 06-155; FCC 13-15, which updates part 5 of the CFR—“Experimental Radio Service” (ERS). The Commission's recent Report and Order revises and streamlines rules for Experimental licenses. The new rules provide additional license categories to potential licensees. The new license categories are: (1) Program Experimental Radio License; (2) Medical Testing Experimental Radio License; and (3) Compliance Testing Experimental Radio License, including testing of radio frequency equipment in an Open Area Test Site.

Federal Communications Commission.
Sheryl Todd,
Deputy Secretary.

[FR Doc. 2015-33250 Filed 1-13-16; 8:45 am]

BILLING CODE 6712-01-P